DEPARTMENT OF ENERGY

Federal Energy Regulatory Commission

Combined Notice of Filings

Take notice that the Commission has received the following Natural Gas Pipeline Rate and Refund Report filings:

Filings Instituting Procedures

Docket Number: PR19-22-000.

Applicants: Boston Gas Company.

Description: Tariff filing per 284.123(b),(e)/: Revised Statement of Operating Conditions to be effective 1/1/2019.

Filed Date: 11/30/18.

Accession Number: 20181130-5308.

Comments/Protests Due: 5 p.m. ET 12/21/18.

Docket Number: PR19-23-000.

Applicants: Columbia Gas of Maryland, Inc.

Description: Tariff filing per 284.123(b),(e)/: CMD Rates effective 11-26-2018 to be effective 11/26/2018.

Filed Date: 12/4/18.

Accession Number: 20181204-5034.

Comments/Protests Due: 5 p.m. ET 12/26/18.

Docket Numbers: RP19-451-000.

Applicants: Portland Natural Gas Transmission System.

Description: § 4(d) Rate Filing: Housekeeping 2018 to be effective 1/10/2019.

Filed Date: 12/10/18.

Accession Number: 20181210-5113.

Comments Due: 5 p.m. ET 12/24/18.

Docket Numbers: RP19-452-000.

Applicants: Texas Eastern Transmission, LP.

Description: § 4(d) Rate Filing: Negotiated Rate—Colonial 911571 eff 12-11-18 to be effective 12/11/2018.

Filed Date: 12/10/18.

Accession Number: 20181210-5123.

Comments Due: 5 p.m. ET 12/24/18.

Docket Numbers: RP19-453-000.

Applicants: Transwestern Pipeline Company, LLC.

Description: § 4(d) Rate Filing: Negotiated Rate Filing on 12-10-18 to be effective 12/11/2018.

Filed Date: 12/10/18.

Accession Number: 20181210-5130.

Comments Due: 5 p.m. ET 12/24/18.

Docket Numbers: RP19-454-000.

Applicants: Rockies Express Pipeline LLC.

Description: § 4(d) Rate Filing: Neg Rate 2018-12-10 BHS (3) to be effective 12/8/2018.

Filed Date: 12/10/18.

Accession Number: 20181210-5157.

Comments Due: 5 p.m. ET 12/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2018.
Nathaniel J. Davis, Sr.,
Deputy Secretary.

[FR Doc. 2018-27231 Filed 12-14-18; 8:45 am]

BILLING CODE 6717-01-P